DEPARTMENT OF THE TREASURY

Submission for OMB Review; Comment Request

July 23, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 28, 2008 to be assured of consideration.

Financial Management Service (FMS)

OMB Number: 1510-0052.

Type of Review: Extension.

Title: Financial Institution Agreement and Application Forms for Designation as a Treasury Tax and Loan Depositary and Resolution.

Form: FMS-458 and -459.

Description: Financial institutions are required to complete an Agreement and Application to participate in the Federal Tax Deposit/Treasury Tax and Loan Program. The approved application designates the depositary as an authorized recipient of taxpayers' deposits for Federal taxes.

Respondents: Businesses or other for-profit institutions.

Estimated Total Burden Hours: 225 hours.

Clearance Officer: Wesley Powe (202) 874-7662, Financial Management Service, Room 135, 3700 East-West Highway, Hyattsville, MD 20782.

OMB Reviewer: Alexander T. Hunt (202) 395-7316, Office of Management and Budget, Room 10235, New Executive Office Building, Washington, DC 20503.

Robert B. Dahl,
Treasury PRA Clearance Officer.

[FR Doc. E8-17351 Filed 7-28-08; 8:45 am]

BILLING CODE 4810-35-P